NATIONAL AERONAUTICS AND SPACE ADMINISTRATION

[Notice (07-024)]

U.S. Space-Based Positioning, Navigation, and Timing Advisory Board Charter; Notice of Amendment and Renewal

AGENCY: National Aeronautics and Space Administration (NASA).

ACTION: Notice of Amendment and Renewal of the Charter for the U.S. Space-Based Positioning, Navigation, and Timing Advisory Board.

SUMMARY: The title of the current U.S. Space-Based Positioning, Navigation and Timing Advisory Board Charter is being amended to be in compliance with Public Law 109-364, Section 911(a)(3), signed into law by the President on October 17, 2006. The only change is to amend “U.S.” to “National” in the title.

FOR FURTHER INFORMATION CONTACT: Ms. P. Diane Rausch, Advisory Committee Management Officer, Office of External Relations, National Aeronautics and Space Administration, Washington, DC 20546, 202/358-4510.

Dated: March 9, 2007.
P. Diane Rausch,
Advisory Committee Management Officer, National Aeronautics and Space Administration.

[FR Doc. E7-4801 Filed 3-15-07; 8:45 am]

BILLING CODE 7510-13-P